DEPARTMENT OF THE INTERIOR

Bureau of Land Management

[AK-990-07-5101-NH-FLO7]

Notice of Public Meeting of the Federal/State Joint Pipeline Office Executive Council

AGENCY: Bureau of Land Management, Alaska State Office, Interior.

ACTION: Notice of public meeting.

SUMMARY: In accordance with the Federal Register requirements to announce meetings the Federal/State Joint Pipeline Office will meet as indicated below.

DATES: The meeting will be held June 13, 2007, at the Alaska State Library Talking Book Center at 344 West 3rd Avenue, Suite 125, in Anchorage, Alaska. The meeting begins at 8:30 a.m.

The council will accept public comment at 1 p.m. Time for individual comments may be limited depending on the number of people wishing to give comment. The council will accept written comments.

FOR FURTHER INFORMATION CONTACT: Rhea DoBosh, Joint Pipeline Office, 411 West 4th Avenue, Suite 2C, Anchorage, Alaska 99501; by phone, 907-257-1338; by fax, 907-257-1397; or by e-mail, rdobosh@jpo.doi.gov.

SUPPLEMENTARY INFORMATION: The 12-member Federal/State Executive Council was created in March 1990 to provide full partnership for State and Federal agencies in monitoring of the Trans-Alaska Pipeline System (TAPS). At this meeting, topics to be presented and discussed include:

• History and overview of the Joint Pipeline Office.

• Update on the TAPS Strategic Reconfiguration Project.

• Agency reports.

• Future scope of work.

• Other topics the Council may raise.

All meetings are open to the public. If you plan to comment on an agenda item, please be aware that your entire comment—including your personal identifying information of address, phone number, e-mail address, or other personal identifying information in your comment—may be made publicly available at any time. While you can ask us in your comment to withhold your personal identifying information from public review, we cannot guarantee that we will be able to do so. The public may present written comments to the Council.

Individuals who plan to attend and need special assistance, such as sign language interpretation, transportation, or other reasonable accommodations, should contact the Joint Pipeline Office so arrangements can be made.

To connect to the meeting via telebridge, dial 1-877-934-3608, then dial code 190500#. When the automated voice instructs you to say your name, say “Your Name/Office” then press #.

Dated: May 8, 2007.
Sharon K Wilson,
Acting State Director.

[FR Doc. E7-9284 Filed 5-14-07; 8:45 am]

BILLING CODE 4310-JA-P